DEPARTMENT OF TRANSPORTATION

Federal Motor Carrier Safety Administration

[Docket No. FMCSA-2005-23099]

Qualification of Drivers; Exemption Applications; Vision

AGENCY: Federal Motor Carrier Safety Administration (FMCSA), DOT.

ACTION: Notice of applications for exemptions; request for comments.

SUMMARY: FMCSA announces receipt of applications from 17 individuals for an exemption from the vision requirement in the Federal Motor Carrier Safety Regulations. If granted, the exemptions would enable these individuals to qualify as drivers of commercial motor vehicles (CMVs) in interstate commerce without meeting the Federal vision standard.

DATES: Comments must be received on or before February 24, 2006.

ADDRESSES: You may submit comments identified by DOT Docket Management System (DMS) Docket Number FMCSA-2005-23099 using any of the following methods:

• Web site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number for this notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the Department of Transportation's complete Privacy Act Statement in the Federal Register published on April 11, 2000 (65 FR 19477; Apr. 11, 2000). This information is also available at http://dms.dot.gov.

FOR FURTHER INFORMATION CONTACT: Dr. Mary D. Gunnels, Chief, Physical Qualifications Division, (202) 366-4001, mgunnels@fmcsa.dot.gov, FMCSA, Department of Transportation, 400 Seventh Street, SW., Washington, DC 20590-0001. Office hours are from 8 a.m. to 5 p.m., e.t., Monday through Friday, except Federal holidays.

SUPPLEMENTARY INFORMATION:

Background

Under 49 U.S.C. 31315 and 31136(e), FMCSA may grant an exemption for a 2-year period if it finds “such exemption would likely achieve a level of safety that is equivalent to, or greater than, the level that would be achieved absent such exemption.” FMCSA can renew exemptions at the end of each 2-year period. The 17 individuals listed in this notice each have requested an exemption from the vision requirement in 49 CFR 391.41(b)(10), which applies to drivers of CMVs in interstate commerce. Accordingly, the agency will evaluate the qualifications of each applicant to determine whether granting the exemption will achieve the required level of safety mandated by statute.

Qualifications of Applicants

John R. Alger

Mr. Alger, 72, has complete loss of vision in his left eye due to phthisis, chronic retinal detachment, and surgical aphakia since 1998. The best corrected visual acuity in his right eye is 20/20. Following an examination in 2005, his ophthalmologist noted, “Mr. Alger has demonstrated the ability to operate a motor vehicle. In my opinion, his vision is stable and sufficient to continue operating a commercial vehicle.” Mr. Alger reported that he has driven straight trucks for 25 years, accumulating 125,000 miles and tractor-trailer combinations for 16 years, accumulating 1.6 million miles. He holds a Class A CDL from Kansas. His driving record for the last 3 years shows no crashes or convictions for moving violations in a CMV.

Gene Bartlett, Jr.

Mr. Bartlett, 43, has had refractive amblyopia in his left eye since childhood. The best corrected visual acuity in his right eye is 20/20 and in the left, 20/60-2. His optometrist examined him in 2005 and noted, “In my opinion, Mr. Gene Bartlett Jr. has more than sufficient vision to safely operate a commercial vehicle.” Mr. Bartlett reported that he has driven straight trucks for 22 years, accumulating 66,000 miles, and tractor-trailer combinations for 22 years, accumulating 66,000 miles. He holds a Class A CDL from Vermont. His driving record for the last 3 years shows no crashes or convictions for moving violations in a CMV.

Raymond C. Becker

Mr. Becker, 80, has had amblyopia in his left eye since childhood. The best corrected visual acuity in his right eye is 20/20 and in the left, 20/70. Following an examination in 2005, his optometrist noted, “I do believe that he has the vision to perform driving tasks to operate a commercial vehicle.” Mr. Becker reported that he has driven straight trucks for 4 years, accumulating 48,000 miles and tractor-trailer combinations for 49 years, accumulating 5.8 million miles. He holds a Class A CDL from Iowa. His driving record for the last 3 years shows no crashes or convictions for moving violations in a CMV.

Marland L. Brassfield

Mr. Brassfield, 50, has had an enucleation of his left eye due to trauma he sustained in 1961. The best uncorrected visual acuity in his right eye is 20/15. His optometrist examined him in 2005 and noted, “In my opinion Mr. Brassfield has more than sufficient vision to perform the driving tasks to operate a commercial vehicle.” Mr. Brassfield reported that he has driven straight trucks for 6 years, accumulating 270,000 miles and tractor-trailer combinations for 9 years, accumulating 900,000 miles. He holds a Class A CDL from Texas. His driving record for the last 3 years shows no crashes or convictions for moving violations in a CMV.

Walter M. Brown

Mr. Brown, 49, has had amblyopia in his left eye since birth. The best corrected visual acuity in his right eye is 20/20 and in the left 20/200. Following an examination in 2005, his optometrist noted, “It is my medical opinion that Mr. Brown has sufficient vision to perform the driving tasks required to operate a commercial vehicle.” Mr. Brown reported that he has driven straight trucks for 19 years, accumulating 988,000 miles and tractor-trailer combinations for 19 years, accumulating 342,000 miles. He holds a Class A CDL from South Carolina. His driving record for the last 3 years shows no crashes or convictions for moving violations in a CMV.

Rodney D. Curtis

Mr. Curtis, 41, has a prosthetic right eye due to trauma he sustained in 1992. The best corrected visual acuity in his left eye is 20/15. Following an examination in 2005, his optometrist noted, “In my opinion, Mr. Curtis has sufficient vision to operate a commercial vehicle.” Mr. Curtis reported that he has driven straight trucks for 4 years, accumulating 80,000 miles and tractor-trailer combinations for 20 years, accumulating 1.4 million miles. He holds a Class A CDL from Iowa. His driving record for the last 3 years shows no crashes or convictions for moving violations in a CMV.

Troy S. David

Mr. David, 36, has a prosthetic left eye due to trauma he sustained as a child. The best corrected visual acuity in his right eye is 20/15. Following an examination in 2005, his optometrist noted, “Mr. David's visual deficiency is stable, and he has sufficient vision to operate a commercial vehicle.” Mr. David reported that he has driven straight trucks for 5 years, accumulating 50,000 miles and tractor-trailer combinations for 15 years, accumulating 1.2 million miles. He holds a Class A CDL from Washington. His driving record for the last 3 years shows no crashes or convictions for moving violations in a CMV.

Norman J. Day

Mr. Day, 58, has a corneal scar on his left eye due to chicken pox and measles infections he sustained as a child. The best corrected visual acuity in his right eye is 20/15 and in the left, hand motion. His optometrist examined him in 2005 and noted, “I certify that Mr. Norman Day has sufficient vision to perform driving tasks required to operate a commercial vehicle.” Mr. Day reported that he has driven straight trucks for 39 years, accumulating 780,000 miles and tractor-trailer combinations for 35 years, accumulating 1 million miles. He holds a Class A CDL from Massachusetts. His driving record for the last 3 years shows no crashes or convictions for moving violations in a CMV.

John M. Doney

Mr. Doney, 47, has had loss of vision in his right eye due to trauma he sustained in 1965. The best corrected visual acuity in his right eye is 20/70 and in the left, 20/20. Following an examination in 2005, his optometrist noted, “We hereby certify that in our opinion he has sufficient vision to operate a commercial vehicle.” Mr. Doney reported that he has driven straight trucks for 5 years, accumulating 124,000 miles and tractor-trailer combinations for 1 year, accumulating 15,000 miles. He holds a Class B CDL from Missouri. His driving record for the last 3 years shows no crashes or convictions for moving violations in a CMV.

Dale Fields

Mr. Fields, 65, has commotio retinae in his left eye due to trauma sustained in 1948. The best corrected visual acuity in the right eye, is 20/40 and in the left, 20/400. Following an examination in 2005, his optometrist noted, “In my opinion, Mr. Fields has sufficient vision to perform the driving tasks required to operate a commercial vehicle.” Mr. Fields reported that he has driven tractor-trailer combinations for 39 years, accumulating 3,120,000 miles. He holds a Class A CDL from West Virginia. His driving record for the last 3 years shows no crashes or convictions for moving violations in a CMV.

Billy Ray Jeffries

Mr. Jeffries, 49, has had strabismic amblyopia in his right eye since childhood. His optometrist noted that there is no way of knowing how long he has been amblyopic. The best corrected visual acuity in his right eye is 20/25 and in the left, 20/200. His optometrist examined him in 2005 and noted, “In my professional opinion, Mr. Jeffries has sufficient vision to perform the driving tasks required to operate a commercial vehicle.” Mr. Jeffries reported that he has driven straight trucks for 6 years, accumulating 150,000 miles. He holds a Class A CDL from West Virginia. His driving record for the last 3 years shows no crashes or convictions for moving violations in a CMV.

Brian E. Monaghan

Mr. Monaghan, 55, has had amblyopia in his left eye since birth. The best corrected visual acuity in his right eye is 20/20 and in the left, 20/200. Following an examination in 2005, his ophthalmologist noted, “He should have sufficient vision to drive a commercial vehicle.” Mr. Monaghan reported that he has driven straight trucks for 28 years, accumulating 1.2 million miles. He holds a Class B CDL from Illinois. His driving record for the last 3 years shows no crashes or convictions for moving violations in a CMV.

Roberto G. Serna

Mr. Serna, 49, has maculopathy in his left eye due to trauma he sustained over 20 years ago. The best corrected visual acuity in his right eye is 20/20 and in the left, 20/70. His optometrist examined him in 2005 and noted “After examining him, in my opinion, he has sufficient vision to operate a commercial vehicle.” Mr. Serna reported that he has driven straight trucks for 30 years, accumulating 90,000 miles. He holds a Class C operator's license from Maryland. His driving record for the last 3 years shows no crashes or convictions for moving violations in a CMV.

Robert V. Sloan

Mr. Sloan, 45, has had amblyopia in his left eye since childhood. The best corrected visual acuity in his right eye is 20/20 and in the left, 20/80. His optometrist examined him in 2005 and noted, “I think Mr. Robert Sloan has sufficient vision for driving a commercial vehicle.” Mr. Sloan reported that he has driven straight trucks for 9 years, accumulating 98,550 miles. He holds a Class C operator's license from North Carolina. His driving record for the last 3 years shows no crashes or convictions for moving violations in a CMV.

Raymond C. Smith

Mr. Smith, 72, has had ischemic optic neuropathy in his right eye since 2000. The best corrected visual acuity in his right eye is count-finger-vision at 8 feet and in the left, 20/20. Following an examination in 2004, his optometrist noted, “In my opinion, Mr. Smith retains more than enough vision to perform the driving tasks required to operate a commercial vehicle.” Mr. Smith reported that he has driven straight trucks for 8 years, accumulating 384,000 miles and tractor-trailer combinations for 45 years, accumulating 2.7 million miles. He holds a Class A CDL from Ohio. His driving record for the last 3 years shows no crashes or convictions for moving violations in a CMV.

Gary N. Wilson

Mr. Wilson, 51, has a prosthetic right eye due to an injury he sustained in 1959. The best corrected visual acuity in his left eye is 20/20. Following an examination in 2005, his optometrist noted, “I feel Gary has sufficient vision to operate a commercial vehicle. He has had this condition since he has been driving and he has a very good driving record.” Mr. Wilson reported that he has driven straight trucks for 31 years, accumulating 775,000 miles. He holds a Class D operator's license from Utah. His driving record for the last 3 years shows no crashes or convictions for moving violations in a CMV.

William B. Wilson

Mr. Wilson, 63, has had amblyopia in his right eye since birth. The best corrected visual acuity in his right eye is 20/80 and in the left, 20/20. Following an examination in 2005, his ophthalmologist noted, “It is my medical opinion that Mr. Wilson has sufficient vision to perform the driving tasks required to operate a commercial vehicle.” Mr. Wilson reported that he has driven straight trucks for 47 years, accumulating 1.2 million miles and tractor-trailer combinations for 6 years, accumulating 600,000 miles. He holds a Class A CDL from Kentucky. His driving record for the last 3 years shows no crashes or convictions for moving violations in a CMV.

Request for Comments

In accordance with 49 U.S.C. 31315 and 31136(e), FMCSA requests public comment from all interested persons on the exemption petitions described in this notice. The agency will consider all comments received before the close of business February 24, 2006. Comments will be available for examination in the docket at the location listed under the ADDRESSES section of this notice. The agency will file comments received after the comment closing date in the public docket, and will consider them to the extent practicable. In addition to late comments, FMCSA will also continue to file, in the public docket, relevant information that becomes available after the comment closing date. Interested persons should monitor the public docket for new material.

Issued on January 18, 2006.
Rose A. McMurray,
Associate Administrator, Policy and Program Development.

[FR Doc. E6-856 Filed 1-24-06; 8:45 am]

BILLING CODE 4910-EX-P